DEPARMENT OF COMMERCE

[Docket No. 150324295-5526-02]

Privacy Act of 1974, New System of Records

AGENCY: U.S. Department of Commerce, Office of the Secretary.

ACTION: Reopening of Public Comment Period for Proposed Action; Notice of New Privacy Act System of Records; “COMMERCE/DEPT-25, Access Control and Identity Management System.”

SUMMARY: On May 8, 2015, the Department of Commerce (Department) published in the Federal Register a proposed new Privacy Act system of records on the Access Control and Identity Management System and requested comment on or before June 8, 2015. The Department is reopening the original public comment period of 30 days for the proposed new Privacy Act system of records for an additional 30 days from the date of publication of this notice. The reopening is necessary because not all interested parties may have been given appropriate notification about this proposed new system of records, as well as time to respond with comments prior to the closing date of the original public comment period of June 8, 2015. All previously submitted comments will be responded to as appropriate, and members of the public who have submitted comments during the prior comment period need not resubmit them at this time.

DATES: The comment period for the proposed new Privacy Act system of records published May 8, 2015 (80 FR 26534), is reopened. To be considered, written comments must be submitted on or before July 29, 2015.

Unless comments are received, the new system of records will become effective as proposed on the date of publication of a subsequent notice in the Federal Register.

ADDRESSES: You may submit written comments by any of the following methods:

Email: nschnare@doc.gov. Include “COMMERCE/DEPT-25, Access Control and Identity Management System” in the subtext of the message.

Fax: (202) 482-6089, marked to the attention of Mr. Nicholas Schnare.

Mail: Mr. Nicholas Schnare, Office of Security, U.S. Department of Commerce, 1401 Constitution Ave., Room 1511, NW., Washington, DC 20230.

FOR FURTHER INFORMATION CONTACT: Mr. Nicholas Schnare, Office of Security, U.S. Department of Commerce, 1401 Constitution Ave., Room 1511, NW., Washington, DC 20230, (202) 482-8333.

SUPPLEMENTARY INFORMATION: On May 8, 2015, the Department of Commerce (Department) published in the Federal Register a proposed new Privacy Act system of records on the Access Control and Identity Management System. See 80 FR 26534, May 8, 2015. In the original proposal, the Department requested comment on or before June 8, 2015. The public comment period is being reopened because not all interested parties may have been given adequate notice, as well as time to respond with comments about the Department's proposal to add this new system of records under the Privacy Act of 1974 for Access and Identity Management System records. This reopening will provide an opportunity for appropriate review and comment of the proposed new system of records now posted in the public docket, Docket ID No. 150324295-5295-01, for 30 days from the date of today's publication.

Dated: June 19, 2015.
Brenda Dolan,
Department of Commerce, Freedom of Information and Privacy Act Officer.

[FR Doc. 2015-15866 Filed 6-26-15; 8:45 am]

BILLING CODE 3510-BX-P